SMALL BUSINESS ADMINISTRATION

[Disaster Declaration #11145]

Missouri Disaster Number MO-00019

AGENCY: U.S. Small Business Administration.

ACTION: Notice.

SUMMARY: This is a Notice of the Presidential declaration of a major disaster for Public Assistance Only for the State of Missouri (FEMA-1736-DR), dated 12/27/2007.

Incident: Severe Winter Storms.

Incident Period: 12/06/2007 and Continuing.

Effective Date: 12/27/2007.

Physical Loan Application Deadline Date: 2/25/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: Notice is hereby given that as a result of the President's major disaster declaration on 12/27/2007, Private Non-Profit organizations that provide essential services of a governmental nature may file disaster loan applications at the address listed above or other locally announced locations.

The following areas have been determined to be adversely affected by the disaster:

Primary Counties: Adair, Andrew, Atchison, Audrain, Barton, Benton, Boone, Buchanan, Caldwell, Callaway, Camden, Cedar, Clinton, Cole, Dade, Daviess, Dekalb, Gentry, Grundy, Harrison, Hickory, Holt, Jasper, Lincoln, Linn, Mcdonald, Mercer, Miller, Moniteau, Montgomery, Morgan, Newton, Nodaway, Osage, Pike, Putnam, Saint Clair, Schuyler, Scotland, Sullivan, Warren, Worth.

The Interest Rates are:

| Percent
Other (Including Non-Profit Organizations) With Credit Available Elsewhere | 5.250
Businesses And Non-Profit Organizations Without Credit Available Elsewhere | 4.000

The number assigned to this disaster for physical damage is 11145.

(Catalog of Federal Domestic Assistance Number 59008).

James E. Rivera,
Acting Associate Administrator for Disaster Assistance.

[FR Doc. E8-286 Filed 1-9-08; 8:45 am]

BILLING CODE 8025-01-P